DEPARTMENT OF ENERGY

Federal Energy Regulatory Commission

Docket No. RP03-335-000.

Enbridge Offshore Pipelines (UTOS) LLC; Notice of Proposed Change in FERC Gas Tariff

April 9, 2003.

Take notice that on March 31, 2003, Enbridge Offshore Pipelines (UTOS) LLC, (UTOS) tendered for filing as part of it FERC Gas Tariff, Fifth Revised Volume No. 1, the following revised tariff sheets, to become effective on May 1, 2003:

First Revised Sheet No. 4.

Second Revised Sheet No. 100.

Second Revised Sheet No. 135.

UTOS states that the proposed changes would increase revenues from jurisdictional services by $977,555 based on the 12-month period ending November 30, 2002, as adjusted.

UTOS states that the principal reasons for the tariff change is: (1) Addition of an ACA Surcharge; (2) increased cost of capital; (3) recovery of a management fee and (4) continuing decline in level of transportation volumes.

Any person desiring to be heard or to protest said filing should file a motion to intervene or a protest with the Federal Energy Regulatory Commission, 888 First Street, NE., Washington, DC 20426, in accordance with Sections 385.314 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 14, 2003.

Magalie R. Salas,
Secretary.

[FR Doc. 03-9246 Filed 4-15-03; 8:45 am]

BILLING CODE 6717-01-P